DEPARTMENT OF HEALTH AND HUMAN SERVICES

National Institutes of Health

Center for Scientific Review; Amended Notice of Meeting

Notice is hereby given of a change in the meeting of the Center for Scientific Review Special Emphasis Panel, June 26, 2007, 12 p.m. to June 26, 2007, 1:30 p.m., National Institutes of Health, 6701 Rockledge Drive, Bethesda, MD, 20892 which was published in the Federal Register on May 21, 2007, 72 FR 28515-28517.

The meeting title has been change to “CIHB Member Special Emphasis Panel”. The meeting is closed to the public.

Dated: May 22, 2007.
Jennifer Spaeth,
Director, Office of Federal Advisory Committee Policy.

[FR Doc. 07-2668 Filed 5-29-07; 8:45 am]

BILLING CODE 4140-01-M